DEPARTMENT OF TRANSPORTATION

Federal Highway Administration

23 CFR Chapter I

[Docket No. FHWA-2016-0002]

RIN 2125-AF70

Tribal Transportation Self-Governance Program; Negotiated Rulemaking Second Meeting

AGENCY: Federal Highway Administration, DOT.

ACTION: Notice of meeting.

SUMMARY: This document announces the second meeting of the Tribal Transportation Self-Governance Program (TTSGP) Negotiated Rulemaking Committee. This notice also announces additional alternate committee members.

DATES: The second meeting of the TTSGP Negotiated Rulemaking Committee is scheduled for September 13-15, 2016, from 8:00 a.m. until 5:00 p.m.

ADDRESSES: The second TTSGP Negotiated Rulemaking Committee meeting will be held at the Eastern Federal Lands Highway Division, Loudoun Tech Center, 21400 Ridgetop Circle, Sterling, VA 20166-6511.

FOR FURTHER INFORMATION CONTACT: Robert W. Sparrow, Designated Federal Official, 1200 New Jersey Avenue SE., Washington, DC 20590. Telephone: (202) 366-9483 or at robert.sparrow@dot.gov. Vivian Philbin, Assistant Chief Counsel, 12300 West Dakota Avenue, Lakewood, CO 80228. Telephone: (720) 963-3445 or at vivian.philbin@dot.gov. Additional information may be posted on the FHWA Tribal Transportation Program Web site at https://flh.fhwa.dot.gov/programs/ttp/ as it comes available.

SUPPLEMENTARY INFORMATION:

Background

As required by Section 1121 of the Fixing America's Surface Transportation (FAST) Act, the Secretary shall, pursuant to a negotiated rulemaking process, develop a Notice of Proposed Rulemaking (NPRM) that contains the regulations required to carry the TTSGP. Section 1121 also requires that in establishing this committee, the Secretary will (1) apply the procedures of negotiated rulemaking under subchapter III of chapter 5 of title 5 (the Negotiated Rulemaking Act) in a manner that reflects the unique government-to-government relationship between the Indian tribes and the United States and (2) select the tribal representatives for the committee from among elected officials of tribal governments (or their designated employees with authority to act on their behalf), acting in their official capacities.

On July 27, 2016, at 81 FR 49193, FHWA published its list of the TTSGP Negotiated Rulemaking Committee. Since multiple submissions were not received from Tribes within the Bureau of Indian Affairs' Midwest or Rocky Mountain Regions, an alternate for those regions were not originally named. Since that time through the work of the primary committee members and others, additional submittals have been submitted. As a result of this effort, the following have been named as Alternate Tribal Representatives:

• MIDWEST REGION—Dean Branchaud, Executive Director of Tribal Engineering, Red Lake Band of Chippewa Indians, Red Lake, MN.

• ROCKY MOUNTAIN REGION—Connie Thompson, Transportation Planner, Fort Peck Assiniboine & Sioux Tribes, Poplar, MT.

Additional representatives or changes in the status of existing representatives may be forthcoming in future Federal Register Notices.

Meeting Participation

The meeting will be open to the public. Time has been set aside during each day of the meeting for members of the public to contribute to the discussion and provide oral comments.

Submitting Written Comments

Members of the public may submit written comments on the topics to be considered during the meeting by September 9, 2016, to Federal Docket Management System (FDMS) Docket Number FHWA-2016-0002. If you submit a comment, please include the docket number for this notice (FHWA-2016-0002). You may submit your comments and material online or by fax, mail, or hand delivery, but please use only one of these means. The FHWA recommends that you include your name and a mailing address, an email address, or a phone number in the body of your document so that FHWA can contact you if there are questions regarding your submission.

To submit your comment online, go to http://www.regulations.gov, put the docket number, FHWA-2016-0002, in the keyword box, and click “Search.” When the new screen appears, click on the “Comment Now!” button and type your comment into the text box on the following screen. Choose whether you are submitting your comment as an individual or on behalf of a third party and then submit.

If you submit your comments by mail or hand delivery, submit them in an unbound format, no larger than 8½ by 11 inches, suitable for copying and electronic filing.

Viewing Comments and Documents

To view comments, as well as any documents mentioned in this preamble as being available in the docket, go to http://www.regulations.gov. Insert the docket number, FHWA-2016-0002, in the keyword box, and click “Search.” Next, click the “Open Docket Folder” button and choose the document to review. If you do not have access to the Internet, you may view the docket online by visiting the Docket Management Facility in Room W12-140 on the ground floor of the DOT West Building, 1200 New Jersey Avenue SE., Washington, DC 20590, between 9 a.m. and 5 p.m., E.T., Monday through Friday, except Federal holidays.

Privacy Act

In accordance with 5 U.S.C. 553(c), DOT solicits comments from the public to better inform its rulemaking process. The DOT posts these comments, without edit, including any personal information the commenter provides, to www.regulations.gov, as described in the system of records notice (DOT/ALL-14 FDMS), which can be reviewed at www.dot.gov/privacy.

Future Committee Meetings and Rulemaking Calendar

Decisions with respect to future meetings will be made at the second meeting and from time to time thereafter. Notices of all future meetings will be shown on the FHWA TTP Web site at https://flh.fhwa.dot.gov/programs/ttp/ at least 15 calendar days prior to each meeting.

Issued on: September 7, 2016.
Gregory G. Nadeau,
Administrator, Federal Highway Administration.

[FR Doc. 2016-22128 Filed 9-9-16; 4:15 pm]

BILLING CODE 4910-22-P